DEPARTMENT OF ENERGY

Federal Energy Regulatory Commission

[Docket No. RP18-314-000]

Transcontinental Gas Pipe Line Company, LLC; Notice of Technical Conference

Take notice that a technical conference will be held on Wednesday, March 28, 2018 at 10:00 a.m. (Eastern Standard Time), in a room to be determined at the offices of the Federal Energy Regulatory Commission, 888 First Street, NE, Washington DC 20426.

At the technical conference, the Commission Staff and the parties to the proceeding should be prepared to discuss all issues set for technical conference as established in the March 1, 2018 Order, Transcontinental Gas Pipe Line Company, LLC, 162 FERC 61,190. All interested persons are permitted to attend.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference please contact Tehseen Rana at (202)-502-8639 or tehseen.rana@ferc.gov.

Dated: March 15, 2018.
Nathaniel J. Davis, Sr.,
Deputy Secretary.

[FR Doc. 2018-05682 Filed 3-20-18; 8:45 am]

BILLING CODE 6717-01-P